DEPARTMENT OF HEALTH AND HUMAN SERVICES

Centers for Disease Control and Prevention

[30Day-17-0739]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments are due within 30 days of this notice.

Proposed Project

CDC Oral Health Management Information System (OMB Control Number 0920-0739, expiration date 5/31/2017)—Reinstatement with Change. Division of Oral Health (DOH), National Center for Chronic Disease Prevention and Health Promotion (NCCDPHP), Centers for Disease Control and Prevention (CDC).

Background and Brief Description

The CDC works with state health departments to improve the oral health of the nation. Targeted efforts include building and/or maintaining an effective public health capacity for the implementation, evaluation, and dissemination of evidence-based practices in oral health disease prevention and advancement of oral health. Through a cooperative agreement program (Program Announcement DP13-1307), CDC has provided funding to 21 states over a 5-year period. This cooperative agreement went into effect in September 2013 and builds upon previously funded collaborations between CDC and state-based oral health programs.

Currently, CDC does not have approval to collect annual progress and activity reports from state-based oral health programs using the Chronic Disease Management Information System (CDMIS). The information collected in the Management Information System (MIS) improves CDC's ability to disseminate information about successful public health approaches that are potentially replicable and adaptable for use in other states.

CDC requests a reinstatement with change to continue collecting information for two additional years. The estimated burden decreased from 255 to 171 hours as programs no longer have to repeat the initial entry of administrative data after the first year. The estimated burden for system maintenance and annual reporting is three hours for Basic-level awardees. The estimated burden for system maintenance and annual reporting is nine hours for Enhanced-level awardees. State awardees submit reports to CDC annually; however, states may enter updates in the MIS at any time.

CDC collects all information electronically and uses this information to monitor awardee activities and to provide any needed technical assistance or follow-up support.

There are no costs to respondents other than their time. The total estimated annualized burden hours are 171.

Estimated Annualized Burden of Hours
Type of respondents | Form name | Number of respondents | Number of responses per respondent | Average burden per response (in hours)
Program Awardees Basic Level | Annual Progress Report | 3 | 1 | 3
Program Awardees Enhanced Level | Annual Progress Report | 18 | 1 | 9

Leroy A. Richardson,
Chief, Information Collection Review Office, Office of Scientific Integrity, Office of the Associate Director for Science, Office of the Director, Centers for Disease Control and Prevention.

[FR Doc. 2017-17581 Filed 8-18-17; 8:45 am]

BILLING CODE 4163-18-P